DEPARTMENT OF STATE

[Public Notice: 7012; OMB Control Number 1405-0156]

30-Day Notice of Proposed Information Collection: DS-4048, Projected Sales of Major Weapons in Support of Section 25(a)(1) of the Arms Export Control Act

ACTION: Notice of request for public comment and submission to OMB of proposed collections of information.

SUMMARY: The Department of State has submitted the following information collection request to the Office of Management and Budget (OMB) for approval in accordance with the Paperwork Reduction Act of 1995.

• Title of Information Collection: Projected Sales of Major Weapons in Support of Section 25(a)(1) of the Arms Export Control Act.

• OMB Control Number: 1405-0156.

• Type of Request: Extension of Currently Approved Collection.

• Originating Office: Bureau of Political Military Affairs, Directorate of Defense Trade Controls, PM/DDTC.

• Form Number: DS-4048.

• Respondents: Business Organizations.

• Estimated Number of Respondents: 25.

• Estimated Number of Responses: 25.

• Average Hours per Response: 60 hours.

• Total Estimated Burden: 1,500 hours.

• Frequency: Annually.

• Obligation To Respond: Voluntary.

DATES: Submit comments to the Office of Management and Budget (OMB) for up to 30 days from May 18, 2010.

ADDRESSES: Direct comments to the Department of State Desk Officer in the Office of Information and Regulatory Affairs at the Office of Management and Budget (OMB). You may submit comments by the following methods:

• E-mail: oira_submission@omb.eop.gov. You must include the DS form number, information collection title, and OMB control number in the subject line of your message.

• Fax: 202-395-5806. Attention: Desk Officer for Department of State.

FOR FURTHER INFORMATION CONTACT: You may obtain copies of the proposed information collections and supporting documents from Nicholas Memos, PM/DDTC, SA-1, 12th Floor, Directorate of Defense Trade Controls, Bureau of Political-Military Affairs, U.S. Department of State, Washington, DC 20522-0112, who may be reached via phone at (202) 663-2804, or via e-mail at memosni@state.gov.

SUPPLEMENTARY INFORMATION:

We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection: Section 25(a)(1) of the Arms Export Control Act requires an annual report to Congress on projected sales of major weapons and weapons-related defense equipment (if $7M or more) and non-major weapons or weapons-related defense equipment (if $25M or more). In order to prepare this report, the Directorate of Defense Trade Controls (DDTC) requests information from major defense companies by publishing a Federal Register notice and by placing a notice on its Web site. DDTC is requesting relevant projected sales that include the foreign country to which the item is to be sold, a description of the item, the item's quantity, and its value.

Dated: May 10, 2010.
Beth M. McCormick,
Deputy Assistant Secretary for Defense Trade and Regional Security, Bureau of Political-Military Affairs, U.S. Department of State.

[FR Doc. 2010-11853 Filed 5-17-10; 8:45 am]

BILLING CODE 4710-25-P